FEDERAL COMMUNICATIONS COMMISSION

47 CFR Part 76

[CS Docket No. 96-46, FCC 96-334]

Open Video Systems

AGENCY: Federal Communications Commission.

ACTION: Final rule; announcement of effective date.

SUMMARY: This document announces the effective date of rules published in the Federal Register, 61 FR 43160, August 21, 1996. The final rules modified rules and policies concerning Open Video Systems.

DATES: The amendments to 47 CFR 76.1505(d) and 76.1506(d), (l)(3), and (m)(2) published in the Federal Register at 61 FR 43160, August 21, 1996, are effective February 21, 2013.

FOR FURTHER INFORMATION CONTACT: For additional information contact John Norton, 202-418-2120, Media Bureau, Policy Division.

SUPPLEMENTARY INFORMATION: In a Third Report and Order and Second Order on Reconsideration released on August 8, 1996, FCC 96-334, and published in the Federal Register on August 21, 1996, 61 FR 43160, the Commission adopted rules which contained information collection requirements subject to the Paperwork Reduction Act. The document stated that the rule changes requiring OMB approval would become effective after OMB approval and announcement in the Federal Register. On October 24, 1996, the Office of Management and Budget (OMB) approved the information collection requirements contained in 47 CFR 76.1505(d) and 76.1506(d), (l)(3), and (m)(2). This information collection is assigned to OMB Control No. 3060-0700.

Federal Communications Commission.
Marlene H. Dortch,
Secretary.

[FR Doc. 2013-03945 Filed 2-20-13; 8:45 am]

BILLING CODE 6712-01-P